DEPARTMENT OF DEFENSE

Office of the Secretary

[Docket ID DoD-2019-OS-0134]

Privacy Act of 1974; System of Records

AGENCY: National Geospatial-Intelligence Agency (NGA), Department of Defense (DoD).

ACTION: Rescindment of a System of Records notice.

SUMMARY: The NGA is rescinding a System of Records, TravelNet Files, B1211-04. This System of Records maintained employee and contractor records associated with foreign contracts, business engagements, and travel outside the United States. All TravelNet files were destroyed in accordance with the approved National Archives and Records Administration (NARA) records schedule.

DATES: This notice is effective upon publication. This System of Records was decommissioned on July 1, 2012 and all TravelNet files were destroyed by July 1, 2018 in accordance with the NARA-approved records schedule.

FOR FURTHER INFORMATION CONTACT: To submit general questions about the rescinded system, please contact Mr. Charles R. Melton, Chief FOIA, National Geospatial-Intelligence Agency, Security and Installation, Attn: FOIA Office, 7500 GEOINT Drive, Springfield, VA 22150-7500, or by phone at (571) 558-3715.

SUPPLEMENTARY INFORMATION: On July 1, 2012 the TravelNet system was deactivated and all files were destroyed in accordance with records management policy and directions. NGA currently uses the Enterprise Workforce Management System to track this requirement. Enterprise Workforce Management System is associated with SORN NGA-003. The DoD SORNs subject to the Privacy Act of 1974 (5 U.S.C. 552a), as amended, have been published in the Federal Register and are available from the address in FOR FURTHER INFORMATION CONTACT or at the Defense Privacy, Civil Liberties and Transparency Division website at https://dpcld.defense.gov/.

The proposed system reports, as required by the Privacy Act of 1974, as amended, were submitted on October 10, 2019, to the House Committee on Oversight and Reform, the Senate Committee on Homeland Security and Governmental Affairs, and to the Office of Management and Budget (OMB) pursuant to Section 6 to OMB Circular No. A-108, “Federal Agency Responsibilities for Review, Reporting, and Publication under the Privacy Act,” revised December 23, 2016 (December 23, 2016, 81 FR 94424).

System Name and Number: TravelNet, B1211-04.

History: July 26, 2010, 75 FR 43497.

Dated: December 13, 2019.
Aaron T. Siegel,
Alternate OSD Federal Register Liaison Officer, Department of Defense.

[FR Doc. 2019-27247 Filed 12-17-19; 8:45 am]

BILLING CODE 5001-06-P